DEPARTMENT OF AGRICULTURE

Rural Business-Cooperative Service

[Docket No. RBS-22-Business-0023]

Notice of New Information Collection

AGENCY: Rural Business-Cooperative Service, USDA.

ACTION: Notice and request for comment.

SUMMARY: In accordance with the Paperwork Reduction Act of 1995, this notice announces the Rural Business-Cooperative Service's (RBCS or Agency), an agency within the United States Department of Agriculture, Rural Development, requested that the Office of Management and Budget (OMB) conduct an emergency review by September 27, 2022, of a new information collection package for the Fertilizer Production Expansion Program (FPEP). In addition to the emergency clearance, the regular clearance process is hereby being initiated to provide the public with the opportunity to comment under a full comment period, as the Agency intends to request regular approval from OMB for this information collection. FPEP will support new and expanded supplies of fertilizer and nutrient alternatives that play the same role as fertilizer to United States farmers as a key input necessary for production of agricultural commodities.

DATES: Comments on this notice must be received by December 6, 2022 to be assured of consideration.

FOR FURTHER INFORMATION CONTACT: Pamela Bennett, Regulations Management Division, Innovation Center, U.S. Department of Agriculture. Email: pamela.bennett@usda.gov. Telephone: (202) 720-9639.

SUPPLEMENTARY INFORMATION: The Office of Management and Budget's (OMB) regulation (5 CFR part 1320) implementing provisions of the Paperwork Reduction Act of 1995 (Pub. L. 104-13) requires that RBCS provide public notice of its request for emergency processing and the time period within which OMB should approve or disapprove the collection of information (see 5 CFR 1320.13(d)). This notice identifies this request for an emergency review by September 27, 2022. The regulation also requires that interested members of the public and affected agencies have an opportunity to comment on information collection and recordkeeping activities (see 5 CFR 1320.8(d)). This notice identifies an information collection that RBCS will submit to OMB for regular approval.

Comments are invited on: (a) Whether the proposed collection of information is necessary for the proper performance of the functions of the Rural Business-Cooperative Service, including whether the information will have practical utility; (b) the accuracy of the Rural Business-Cooperative Service's estimate of the burden of the proposed collection of information including validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to https://www.regulations.gov and, in the “Search” box, type in the Docket No. RBS-22-Business-0023. A link to the Notice will appear. You may submit a comment here by selecting the “Comment” button or you can access the “Docket” tab, select the “Notice,” and go to the “Browse & Comment on Documents” Tab. Here you may view comments that have been submitted as well as submit a comment. To submit a comment, select the “Comment” button, complete the required information, and select the “Submit Comment” button at the bottom. Information on using Regulations.gov, including instructions for accessing documents, submitting comments, and viewing the docket after the close of the comment period, is available through the site's “FAQ” link at the bottom.

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Fertilizer Production Expansion Program.

OMB Control Number: 0570-0081.

Type of Request: New information collection.

Abstract: The Rural Business-Cooperative Service administers the Fertilizer Production Expansion Program (FPEP). The purpose of the program is to expand capacity, improve competition, and increase supply chain resilience within the agricultural fertilizer and nutrient management sector, in connection with the production of agricultural commodities. To meet its purpose, FPEP will support the production of agricultural commodities through the manufacturing and processing of fertilizer and nutrient alternatives that are:

• Independent and outside the dominant fertilizer suppliers—The goal is to increase domestic competition. Consequently, entities that hold a Market Share (in either production or distribution) that is greater than or equal to the entity that holds the fourth largest share of the market for nitrogen, phosphate, or potash, or any combination therefore, will not be considered for funding;

• Made in America—Produced within Tribal Lands or in the U.S. and its territories by entities operating within Tribal Lands or in the U.S. and its territories, creating good-paying jobs at home, and reducing the reliance on potentially unstable or inconsistent foreign supplies;

• Innovative—To improve upon fertilizer production methods and efficient-use technologies to jump start the next generation of fertilizers and nutrient alternatives;

• Sustainable—Reduces the greenhouse gas impact of transportation, production, and use through renewable energy sources, feedstocks, formulations, and incentivizing greater precision in fertilizer use; and

• Farmer-focused—Like other CCC investments, a driving factor will be making sure the additional domestic capacity supported by USDA is dedicated to U.S. agricultural commodity production.

The reporting burden covered by this collection of information consists of forms, documents and written burden to support a request for funding for an FPEP grant. This information collection will be used to obtain information necessary to evaluate grant applications to determine the eligibility of the applicant and the project for the program and to qualitatively assess the project's technical and financial merit to determine which projects should be funded.

Estimate of Burden: Public reporting burden for this collection of information is estimated to average 10.42 hours per response.

Respondents: Respondents for this data included but are not limited to Tribes, Tribal entities, for-profit entities, corporations, non-profit entities, producer-owned cooperatives and corporations, certified benefit corporations and state or local government entities.

Estimated Number of Respondents: 135.

Estimated Number of Responses per Respondent: 13.56.

Estimated Number of Responses: 1,831.

Estimated Total Annual Burden on Respondents: 19,082 hours.

Copies of this information collection can be obtained from Pamela Bennett, Rural Development Innovation Center, Regulations Management Division, at (202) 720-9639. All responses to this notice will be summarized and included in the request for OMB approval. All comments will also become a matter of public record.

Mark Brodziski,
Acting Administrator, Rural Business-Cooperative Service.

[FR Doc. 2022-21889 Filed 10-6-22; 8:45 am]

BILLING CODE 3410-XY-P